FEDERAL COMMUNICATIONS COMMISSION

Radio Broadcasting Services; AM or FM Proposals To Change the Community of License

AGENCY: Federal Communications Commission.

ACTION: Notice.

SUMMARY: The following applicants filed AM or FM proposals to change the community of license: COVENANT NETWORK, Station NEW, Facility ID 171236, BMPED-20091118AGS, From ELDON, MO, To ST. THOMAS, MO; COX RADIO, INC., Station WALR-FM, Facility ID 48728, BPH-20091124ABA, From GREENVILLE, GA, To PALMETTO, GA; DARBY ADVERTISING, INC., Station WGRL, Facility ID 170939, BMPH-20091202ACC, From FREDERIC, MI, To WOLVERINE, MI; FEATHERS, JESSE R, Station NEW, Facility ID 183346, BNPH-20091019AAS, From MCCALL, ID, To HUNTINGTON, OR; FIFTH ESTATE COMMUNICATIONS, LLC, Station WHAN, Facility ID 8438, BMP-20091125ABD, From ASHLAND, VA, To POWHATAN, VA; HAMPTONS COMMUNITY RADIO CORPORATION, Station WEER, Facility ID 173471, BMPED-20091029ABL, From EASTHAMPTON VILLAGE, NY, To MONTAUK, NY; HOLY FAMILY COMMUNICATIONS, INC., Station WJTA, Facility ID 175969, BMPED-20091125ADA, From LEIPSIC, OH, To GLANDORF, OH; KING, BRYAN A, Station NEW, Facility ID 183324, BNPH-20091019AFZ, From LA PRYOR, TX, To UVALDE ESTATES, TX; M. KENT FRANDSON, Station KZHK, Facility ID 40519, BPH-20090813ABE, From BUNKERVILLE, NV, To ST GEORGE, UT; MLB-RICHMOND IV, LLC, Station WBBT-FM, Facility ID 31859, BPH-20091125ABI, From POWHATAN, VA, To CHESTERFIELD COURTHO, VA; NM LICENSING LLC, Station WIIL, Facility ID 28473, BPH-20091209AAC, From KENOSHA, WI, To UNION GROVE, WI; PROVIDENT BROADCASTING COMPANY, INC, Station WVFJ-FM, Facility ID 53679, BPH-20091124ACR, From MANCHESTER, GA, To GREENVILLE, GA; SUSQUEHANNA RADIO CORP., Station KIKT, Facility ID 21597, BPH-20091207ABH, From GREENVILLE, TX, To COOPER, TX; SUTTON RADIOCASTING CORPORATION, Station WNCC-FM, Facility ID 14551, BPH-20091125AEJ, From FRANKLIN, NC, To SYLVA, NC.

DATES: Comments may be filed through March 15, 2010.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

James D. Bradshaw,
Deputy Chief, Audio Division, Media Bureau, Federal Communications Commission.

[FR Doc. 2010-330 Filed 1-11-10; 8:45 am]

BILLING CODE 6712-01-P